DEPARTMENT OF THE INTERIOR

Bureau of Land Management

[CO 931 1220 PA]

Proposed Supplementary Rule To Establish Application Fees for Commercial, Competitive, and Organized Group Activity and Event Special Recreation Permits

AGENCY: Bureau of Land Management, Interior.

ACTION: Proposed Supplementary rule to establish application fees for Special Recreation Permits (SRP) for commercial use, competitive use, and organized group activies and events.

SUMMARY: The Colorado State Office of the Bureau of Land Management (BLM) proposes to establish a supplementary rule addressing Special Recreation Permit (SRP) fees. The proposal would establish standard statewide application fees for issuance of a new SRP or the transfer or renewal of an SRP for commercial use, competitive use, or organized group activities and events. These fees would help offset the cost of processing these SRPs, and also allow field offices to keep more revenues for on-the-ground work, including law enforcement, hiring seasonal employees, and site improvements. Currently, there are no statewide application fees. These new fees will not affect cost recovery charges that begin with the first hour when the 50-hour cost recovery threshold is anticipated to be exceeded. The application fees proposed to go into effect on October 1, 2007, are:

• New Special Recreation Permits—$100

• Renewals (re-issuance of expiring/expired permits)—$50

• Transfers—$100

• Annual operating authorizations—No fee charged

These fees do not apply to SRPs issued to individuals and authorizing use of designated Special Areas.

DATES: You should submit your written comments on the proposed supplementary rule by November 13, 2007. Comments that are received after the close of the comment period or comments delivered to an address other than those listed under ADDRESSES need not be considered or included in the Administrative Record for the final supplementary rule.

ADDRESSES:

(1) You may mail comments on the proposed supplementary rules to Jack Placchi, Bureau of Land Management, Colorado State Office, 2850 Youngfield, Lakewood, Colorado 80215;

(2) You may hand deliver comments to the Bureau of Land Management Colorado State Office, at the same address.

(3) You may email your comment to jack_placchi@blm.gov.

FOR FURTHER INFORMATION CONTACT: Jack Placchi, Outdoor Recreation Planner, Bureau of Land Management, Colorado State Office, 2850 Youngfield, Lakewood, Colorado 80215 (303) 239-3832.

SUPPLEMENTARY INFORMATION:

I. Procedures for Submitting Comments

II. Background

III. Procedural Matters

IV. Proposed Supplementary Rule for the BLM Colorado SRP Application Fee

I. Procedures for Submitting Comments

Comments on the proposed supplementary rule should be specific, should be confined to issues pertinent to the proposals, and should explain the reason for any recommended change. Where possible, comments should reference the specific provision of the proposed supplementary rule that is being addressed.

BLM will have all comments, including names and addresses, available for public review at the Colorado State Office in Lakewood during regular business hours (8 a.m. to 4:30 p.m., Monday through Friday, except holidays). Before including your address, telephone number, email address, or other personal identifying information in your comment, be advised that your entire comment—including your personal identifying information—may be made publicly available at any time. While you can ask us in your comment to withhold from public review your personal identifying information, we cannot guarantee that we will be able to do so.

II . Background

In general, all commercial use, competitive use, organized group activities, special events, and special area use on BLM public lands require a Special Recreation Permit (SRP). BLM Colorado manages over 800 SRPs annually for commercial use, competitive use, and organized group activities and events.

BLM Colorado is proposing to implement new application fees for the issuance of new SRPs and for the transfer and renewal of existing SRPs. The new administrative fees will be $100 for new permits, $50 for renewal, and $100 for transfers. The average cost to existing permit holders will be $10 per year, as most permits are renewed every five years. This fee does not apply to SRPs issued to individuals for special area use.

A statewide application fee will make consistent the cost of applying for and processing SRPs for commercial use, competitive use, or organized group activities and events. Currently Colorado offices have been requiring a $90 minimum use fee for new permit applications. If a permit is not issued, some offices return the funds while others keep the fees to offset the costs of evaluation.

The new fees funds will augment recreation opportunities for the public. Both the public and private outfitters will benefit from the fee through BLM's increased law enforcement capabilities, providing more funds for signing and interpretive education and for a greater BLM staff field presence to control illegal operations on BLM-managed public lands.

Pursuant to 43 CFR 2932.31(d)(1)-(2) and BLM Manual H-2930-1, Recreation Permit Administration at Ch. 1, III. G. 2f(1),the State Director has the authority to set and adjust fees for SRPs, including application fees.

III. Procedural Matters

Executive Order 12866, Regulatory Planning and Review

The proposed supplementary rule establishing SRP application fees is not a significant regulatory action under Executive Order 12866. This proposed supplementary rule will not have an annual effect of $100 million or more on the economy. It will not adversely affect in a material way the economy, productivity, competition, jobs, the environment, public health or safety, or state, local, or tribal governments or communities. The proposed supplementary rule will not create a serious inconsistency or otherwise interfere with an action taken or planned by another agency. The proposed rule does not materially alter the budgetary impact of entitlements, grants, user fees, or loan programs or the rights and obligations of their recipients; nor does it raise novel legal or policy issues. It imposes minimal fees for the administration and processing of SRP applications.

Fees have not been consistently charged for SRP applications in the past. While this proposal represents a change from the past administration policies, it will not be a major change in the context of the Executive Order. The fees have been discussed with the Colorado Outfitters Association. Additional limited consultation has also occurred with current SRP holders. Information concerning the proposed new fees will be available on the BLM Web site, through press releases, and distributed to current SRP holders.

Clarity of the Supplementary Rules

Executive Order 12866 requires each agency to write regulations that are simple and easy to understand. The BLM invites comments on how to make this proposed supplementary rule easier to understand, including answers to questions such as the following: (1) Are the requirements in the proposed supplementary rules clearly stated? (2) Does the proposed supplementary rule contain technical language or jargon that interferes with its clarity? (3) Does the format of the proposed supplementary rule (grouping and order of sections, use of headings, paragraphing, etc.) aid or reduce its clarity? (4) Would the supplementary rule be easier to understand if it was divided into more (but shorter) sections? and (5) Is the discussion of the proposed supplementary rule in the SUPPLEMENTARY INFORMATION section of this preamble helpful to your understanding of the proposed supplementary rule? If not, how could this material be more helpful in making the proposed supplementary rule easier to understand?

Please send any comments you have on the clarity of the supplementary rule to the address specified in the ADDRESSES section.

National Environmental Policy Act

BLM has found that the proposed supplementary rule is categorically excluded from environmental review under section 102(2)(C) of the National Environmental Policy Act, pursuant to 516 Departmental Manual (DM), Chapter 2, Appendix 1. This provision of the DM excludes from review under NEPA policies, directives, and regulations that are of an administrative, financial, or procedural nature and whose environmental effects are too broad, speculative, or conjectural to lend themselves to meaningful analysis and will later be subject to the NEPA process, either collectively or case by case. In addition, the proposed rule does not meet any of the 12 criteria for extraordinary circumstances listed in 516 DM, Chapter 2, Appendix 2. Pursuant to Council on Environmental Quality regulations (40 CFR 1508.4) and the environmental policies and procedures of the Department of the Interior, the term “categorical exclusions” means a category of actions which do not individually or cumulatively have a significant effect on the human environment and that have been found to have no such effect in procedures adopted by a Federal agency and for which neither an environmental assessment nor an environmental impact statement is required.

Regulatory Flexibility Act

Congress enacted the Regulatory Flexibility Act of 1980 (RFA), as amended, 5 U.S.C. 601-612, to ensure that government regulations do not unnecessarily or disproportionately burden small entities. The RFA requires a regulatory flexibility analysis if a rule would have a significant economic impact, either detrimental or beneficial, on a substantial number of small entities. The proposed supplementary rule and fees will have a minimal effect on outfitter guide business entities. The average cost to existing permit holders will be $10 per year, as most permits are renewed every five years.

To determine an appropriate fee structure, the BLM interviewed BLM SRP managers across Colorado. Those interviewed included recreation permit and license managers of local and regional recreational programs, including Arkansas Headwaters State Recreation Area, Colorado Department of Regulatory Affairs, and Colorado State Parks River Outfitter Licensing Program. The BLM also interviewed the Executive Director of the Colorado Outfitters Association. The proposed fees are a fraction of the cost of comparable application and license fees across the State.

BLM has determined under the RFA that the proposed supplementary rule will not have a significant economic impact on a substantial number of small entities.

Small Business Regulatory Enforcement Fairness Act (SBREFA)

This proposed supplementary rule is not a “major rule” as defined at 5 U.S.C. 804(2). It will not result in an annual effect on the economy of $100 million or more, in a major increase in costs or prices for consumers, individual industries, government agencies or regions, or in significant adverse effects on competition, employment, investment, productivity, innovation, or on the ability of United States-based enterprises to compete with foreign-based enterprises. It will merely impose reasonable fees for SRP applications to offset costs for processing permits.

Unfunded Mandates Reform Act

The proposed supplementary rule does not impose an unfunded mandate on state, local, or tribal governments, in the aggregate, or the private sector, of more than $100 million per year; nor does the proposed supplementary rule have a significant or unique effect on small governments. Therefore, BLM is not required to prepare a statement containing the information required by the Unfunded Mandates Reform Act at (2 U.S.C. 1532). The proposed rule will impose reasonable fees for SRP applications to offset costs for processing permits. In determining the proposed SRP application fees, the BLM has coordinated with local, state, and Federal agencies.

Executive Order 12630, Governmental Actions and Interference With Constitutionally Protected Property Rights (Takings)

The proposed supplementary rule does not have takings implications and is not a government action capable of interfering with constitutionally protected property rights. The proposed supplementary rule would have minimal effect on private lands or property. Therefore, the Department of the Interior has determined that the rule would not cause a taking of private property or require preparation of a takings assessment under this Executive Order.

Executive Order 13132, Federalism

The proposed supplementary rule would not have a substantial direct effect on the states, on the relationship between the national government and the states, or on the distribution of power and responsibilities among the various levels of government. The proposed supplementary rule would have minimal effect on state or local government. As for the SRP application fee to be imposed, BLM has coordinated with local, state, and Federal agencies, consulted with managers of local and regional recreational programs, including Arkansas Headwaters State Recreation Area, Colorado Department of Regulatory Affairs, and Colorado State Parks River Outfitter Licensing Program, before proposing the new fees for SRPs. Therefore, in accordance with Executive Order 13132, BLM has determined that the proposed supplementary rule does not have sufficient federalism implications to warrant preparation of a Federalism Assessment.

Executive Order 12988, Civil Justice Reform

Under Executive Order 12988, we have found that the proposed supplementary rule would not unduly burden the judicial system and that it meets the requirements of sections 3(a) and 3(b)(2) of the Order.

Executive Order 13175, Consultation and Coordination With Indian Tribal Governments

In accordance with Executive Order 13175, the BLM has found that the proposed supplementary rule for the BLM Colorado SRP application fee does not include policies that have tribal implications.

Executive Order 13352, Facilitation of Cooperative Conservation

In accordance with E.O. 13352, BLM has determined that this proposed rule would not impede cooperative conservation; would take appropriate account of and consider the interests of persons with ownership or other legally recognized interests in land or other natural resources; would properly accommodate local participation in the Federal decision-making process; and would enhance the ability of the BLM to see that Colorado BLM programs, projects, and activities are consistent with protecting public health and safety.

Paperwork Reduction Act

The proposed supplementary rule does not contain information collection requirements that the Office of Management and Budget must approve under the Paperwork Reduction Act of 1995, 44 U.S.C. 3501 et seq.

Author

The principal author of the proposed supplementary rule is Jack Placchi, Outdoor Recreation Planner, Colorado State Office, Bureau of Land Management.

IV. Special Recreation Permit (SRP) Application Fees—BLM Colorado Proposed Supplementary Rule

The Colorado State Office, BLM, hereby proposes a supplementary rule to establish application fees for special recreation permits for commercial uses, competitive uses, or organized group activities and events use of BLM lands in Colorado. This supplementary rule is proposed to go into effect on October 1, 2007. The fees schedule will be posted in all Colorado Field and State Offices and on the Internet at http://www.co.blm.gov.

The fees for special recreation permit applications are:

• New Special Recreation Permits—$100.

• Renewals (re-issuance of expiring/expired permits)—$50.

• Transfers—$100.

• Annual operating authorizations—No fee charged.

These fees do not apply to SRPs issued to individuals and authorizing use of designated Special Areas.

Authority

The Colorado State Office, Bureau of Land Management, proposes this supplementary rule under the Federal Land Policy and Management Act (FLPMA), 43 U.S.C. 1740, 43 CFR 2932.31(d)(1)-(2), 8365.1-6, and BLM Manual H-2930-1. Enforcement authority for this supplementary rule on the public lands within Colorado is found in FLPMA, 43 U.S.C. 1733, and in 43 CFR 8360.0-7.

Penalties

Under section 303(a) of FLPMA, 43 U.S.C. 1733(a), and 43 CFR 8360.0-7, if you violate this supplementary rule on public lands within the boundaries established in the rule, you may be tried before a United States Magistrate and fined no more than $1,000 or imprisoned for no more than 12 months, or both.

Dated: May 8, 2007.
Sally Wisely,
Colorado State Director.

[FR Doc. E7-17827 Filed 9-10-07; 8:45 am]

BILLING CODE 4310-GG-P